DEPARTMENT OF HEALTH AND HUMAN SERVICES

Centers for Disease Control and Prevention

[30Day-18-04]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: Healthy People 2010 Chapter 23: National Survey of Public Health Agencies—New —Public Health Practice Program Office (PHPPO), Centers for Disease Control and Prevention (CDC). The proposed survey is designed to collect data to address objectives in Chapter 23, Public Health Infrastructure. The Centers for Disease Control and Prevention and the Health Resources and Services Administration are co-lead agencies for objectives in Chapter 23. The overall goal of objectives in Chapter 23 is to ensure that federal, state, tribal, and local health agencies have the infrastructure to provide essential public health services effectively. This one-time survey is expected to take place over two to three months. The annualized burden for this data collection is 1,356 hours.

Respondents | Number of respondents | Number of responses per respondent | Average burden per response (in hours)
State Health Department | 56 | 1 | 60/60
Local Health Department | 1,300 | 1 | 60/60

Dated: March 1, 2004.
Alvin Hall,
Director, Management Analysis and Services Office, Centers for Disease Control and Prevention.

[FR Doc. 04-5057 Filed 3-5-04; 8:45 am]

BILLING CODE 4163-18-P